FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 11, 2019.

A. Federal Reserve Bank of Kansas City (Dennis Denney, Assistant Vice President), 1 Memorial Drive, Kansas City, Missouri 64198-0001:

1. Ross M. Tessendorf, Blair, Nebraska; Todd J. Tessendorf, Lincoln, Nebraska; and Travis J. Tessendorf, Columbus, Nebraska; as a group acting in concert, to acquire voting shares of Bellwood Community Holding Company, and indirectly acquire shares of Bank of the Valley, both in Bellwood, Nebraska.

B. Federal Reserve Bank of St. Louis (David L. Hubbard, Senior Manager) P.O. Box 442, St. Louis, Missouri 63166-2034 or electronically to Comments.applications@stls.frb.org:

1. The 2019 Mark Waldrip Beneficiary GST Trust, Mark Waldrip as trustee, Little Rock, Arkansas, and the 2019 Angela Waldrip Beneficiary GST Trust, Angela Waldrip and Nathan Waldrip as co-trustees, both of Moro, Arkansas; individually and as a group, to join the control group of Waldrip Bank Trust, Mark and Angela Waldrip as co-trustees, Nathan and Maegan Waldrip JTWRS, Allison and Aaron Bragg JTWRS, Katie and Ethan Branscum JTWRS, Lauren W. Ward, the 2017 Allison Waldrip Bragg Trust, Allison Bragg and Nathan Waldrip as co-trustees, the 2017 Nathan M. Waldrip Trust, Nathan Waldrip and Allison Bragg as co-trustees, the 2017 Katie Waldrip Branscum Trust, Katie Branscum and Allison Bragg as co-trustees and the 2017 Lauren Waldrip Ward Trust, Lauren Ward and Nathan Waldrip as co-trustees, all of Little Rock, Arkansas, to retain more than 25 percent of the voting shares of Big Creek Bancshares, Inc., Mariana, Arkansas.

Board of Governors of the Federal Reserve System, August 23, 2019.
Yao-Chin Chao,
Assistant Secretary of the Board.

[FR Doc. 2019-18640 Filed 8-28-19; 8:45 am]

BILLING CODE P